DEPARTMENT OF HOMELAND SECURITY

Federal Emergency Management Agency

[Docket ID: FEMA-2011-0040; OMB No. 1660-0045]

Agency Information Collection Activities: Proposed Collection; Comment Request; Inspection of Insured Structures by Communities

AGENCY: Federal Emergency Management Agency, DHS.

ACTION: Notice.

SUMMARY: The Federal Emergency Management Agency, as part of its continuing effort to reduce paperwork and respondent burden, invites the general public and other Federal agencies to take this opportunity to comment on a proposed extension, without change, of a currently approved collection. In accordance with the Paperwork Reduction Act of 1995, this notice seeks comments concerning extension of the Inspection of Insured Structures by Communities. The community inspection report requires that FEMA consult with local officials and others in Monroe County, Village of Islamorada, and the City of Marathon following any hurricane that may hit the Florida Keys, concerning compliance of insured buildings with the community's floodplain management ordinance.

DATES: Comments must be submitted on or before February 21, 2012.

ADDRESSES: To avoid duplicate submissions to the docket, please use only one of the following means to submit comments:

(1) Online. Submit comments at www.regulations.gov under Docket ID FEMA-2011-0040. Follow the instructions for submitting comments.

(2) Mail. Submit written comments to Regulatory Affairs Division, Office of Chief Counsel, DHS/FEMA, 500 C Street, SW., Room 835, Washington, DC 20472-3100.

(3) Facsimile. Submit comments to (703) 483-2999.

(4) Email. Submit comments to FEMA-POLICY@dhs.gov. Include Docket ID FEMA-2011-0040 in the subject line.

All submissions received must include the agency name and Docket ID. Regardless of the method used for submitting comments or materials, all submissions will be posted, without change, to the Federal eRulemaking Portal at http://www.regulations.gov, and will include any personal information you provide. Therefore, all information submitted will be available to the public. You may wish to read the Privacy Act notice that is available via the link in the footer of www.regulations.gov.

FOR FURTHER INFORMATION CONTACT: Jennifer Tylander, Program Specialist, Mitigation Division, (202) 646-2607 for additional information. You may contact the Records Management Division for copies of the proposed collection of information at facsimile number (202) 646-3347 or email address: FEMA-Information-Collections-Management@dhs.gov.

SUPPLEMENTARY INFORMATION: Title 44 CFR parts 59 and 61, National Flood Insurance Program (NFIP); Inspection of Insured Structures by Communities implements the inspection procedures in Monroe County, the City of Marathon, and the Village of Islamorada, Florida, and any other community that incorporates in Monroe County on or after January 1, 1999. The inspection procedure has two major purposes: (1) To help the communities of Monroe County, the City of Marathon, and the Village of Islamorada, Florida, and any other community in Monroe County that incorporates after January 1, 1999, verify that structures in their communities (those built after the effective date of the Flood Insurance Rate Map (FIRM), referred to as post-FIRM) comply with the community's floodplain management ordinance; and (2) to ensure that property owners pay flood insurance premiums commensurate with their flood risk. The inspection procedure requires owners of insured buildings (policyholders) to obtain an inspection from community floodplain management officials and submit a community inspection report as a condition of renewing the Standard Flood Insurance Policy (SFIP) on buildings.

Collection of Information

Title: Inspection of Insured Structures by Communities.

Type of Information Collection: Extension, without change, of a currently approved collection.

OMB Number: 1660-0045.

Form Titles and Numbers: No Forms.

Abstract: The community inspection report is used for the implementation of the inspection procedures to help communities in Monroe County, the City of Marathon, and the Village of Islamorada, Florida, verify buildings are compliant with their floodplain management ordinance and to help FEMA ensure that policyholders are paying flood insurance premiums that are commensurate with their flood risk.

Affected Public: State, Local and Tribal governments.

Estimated Total Annual Burden Hours: 1,041 hours.

Estimated Cost: The estimated annualized cost burden to respondents or recordkeepers is $168,266.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

John G. Jenkins, Jr.,
Acting Records Management Division, Mission Support Bureau, Federal Emergency Management Agency, Department of Homeland Security.

[FR Doc. 2011-32519 Filed 12-19-11; 8:45 am]

BILLING CODE 9110-11-P